DEPARTMENT OF JUSTICE

Office of Justice Programs

Agency Information Collection Activities: Proposed Collection; Comments Requested

ACTION: 30-day notice of information collection under review: categorical assistance progress report.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 70, Number 1, page 123 on January 3, 2005, allowing for a 60 day comment period.

The purpose of this notice is to allow for an additional 30 days for public comment until April 27, 2005. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Categorical Assistance Progress Report.

(3) Agency form number, if any, and the applicable component of the Department sponsoring the collection: Form Number: OJP FORM 4587/1. Office of Justice Programs.

(4) Affected public who will be asked or required to respond, as well as a brief abstract: Primary: State, local or tribal government. Other: Federal government, individuals or households, not-for-profit institutions. The Uniform Administrative Requirements for Grants and Cooperative Agreements—28 CFR part 66, and OMB Circular A-100—authorizes the Department of Justice to collect information from grantees to report on project activities and accomplishments. Grantees that are recipients of a discretionary grant, as well as some formula grants, are required by OJP to report project activities and accomplishments by submitting Categorical Assistance Progress Reports. These reports are expected to include details regarding the stage of project development and data regarding accomplishments to date.

(5) An estimate of the total number of respondents and the amount of time estimated for an average respondent to respond/reply: It is estimated that 10, 366 respondents will take approximately two hours to complete each semi-annual submission of the Categorical Assistance Progress Report for a total of four hours annually per grantee.

(6) An estimate of the total public burden (in hours) associated with the collection: There are an estimated 44,164 total annual burden hours associated with this collection.

If additional information is required contact: Brenda E. Dyer, Department Clearance Officer, United States Department of Justice, Justice Management Division, Policy and Planning Staff, Patrick Henry Building, Suite 1600, 601 D Street, NW., Washington, DC 20530.

Dated: March 22, 2005.
Brenda E. Dyer,
Department Clearance Officer, Department of Justice.

[FR Doc. 05-6020 Filed 3-25-05; 8:45 am]

BILLING CODE 4410-18-P